DEPARTMENT OF COMMERCE

United States Patent and Trademark Office

[Docket No. [PTO-P-2009-0039]

Request for Comments and Notice of Roundtable on Work Sharing for Patent Applications

AGENCY: United States Patent and Trademark Office, Department of Commerce.

ACTION: Notice of public meeting; request for comments.

SUMMARY: In an effort to avoid duplication of work and to expedite the patent examination process, the United States Patent and Trademark Office (USPTO) has been developing work-sharing initiatives in which an office uses, to the maximum extent practicable, the work already done by another office. The USPTO is conducting a roundtable to obtain input from diverse sources in the patent community and/or the public sector to evaluate views on work sharing. The roundtable is open to the public. The USPTO plans to invite a number of roundtable participants from patent user groups, practitioners, industry, independent inventor organizations, academia, and Government. To ensure that the USPTO is receiving a balanced array of views on work sharing, the USPTO also plans to have a few “at-large” participants based upon requests received in response to this notice. To ensure that all who are speaking will have a meaningful chance to do so, the number of participants in the roundtable is limited. Those who wish to participate in the roundtable must do so by written request. Members of the public who wish solely to attend and observe the roundtable need not submit a request.

In addition, any member of the public may submit written comments on issues raised at the roundtable or on any issue pertaining to work sharing.

Dates and Times: The public meeting will be held on Wednesday, November 18, 2009, from 8:30 a.m. to 1 p.m. The deadline for receipt of requests to participate in the roundtable is 5 p.m. on Wednesday, November 4, 2009.

The deadline for receipt of written comments for consideration by the USPTO on issues raised at the roundtable or on any issue pertaining to work sharing is December 11, 2009.

ADDRESSES: The roundtable will be held at the USPTO, Madison Auditorium, Concourse Level, Madison Building, 600 Dulany Street, Alexandria, Virginia 22314.

Requests to participate at the roundtable are required and must be submitted by electronic mail message through the Internet to elizabeth.shaw2@uspto.gov. Requests to participate at the roundtable should indicate the following information: (1) The name of the person desiring to participate and the person's contact information (telephone number and electronic mail address); and (2) the organization(s) the person represents, if any.

Written comments should be sent by electronic mail message over the Internet addressed to IP.Policy@uspto.gov. Comments may also be submitted by mail addressed to: Mail Stop OIPPE, United States Patent and Trademark Office, P.O. Box 1450, Alexandria, VA 22313-1450, ATTN: Elizabeth Shaw. Although comments may be submitted by mail, the USPTO prefers to receive comments via the Internet.

The written comments will be available for public inspection by appointment only at the Office of Intellectual Property Policy and Enforcement in the Executive Library located in Madison West, Tenth Floor, 600 Dulany Street, Alexandria, Virginia 22314. Contact: Elizabeth Shaw at elizabeth.shaw2@uspto.gov or 571-272-8494.

Because comments will be made available for public inspection, information that is not desired to be made public, such as an address or phone number, should not be included in the comments.

FOR FURTHER INFORMATION CONTACT: Elizabeth Shaw, Office of Intellectual Property Policy and Enforcement, by phone 571-272-8494, by facsimile to 571-273-0121, by e-mail at elizabeth.shaw2@uspto.gov or by mail addressed to: Mail Stop OIPPE, United States Patent and Trademark Office, P.O. Box 1450, Alexandria, Virginia 22313-1450, ATTN: Elizabeth Shaw.

SUPPLEMENTARY INFORMATION: Inventors and companies are increasingly seeking intellectual property protection for their inventions domestically and in multiple international markets. Because of the fractured nature of the global patent system, applicants must file different applications for their inventions in each country leading to multiple searches and examinations. This redundancy not only creates inefficiencies and additional costs for applicants, but also results in the offices around the world duplicating a substantial amount of work. The USPTO and many offices around the world now face a growing backlog of pending applications, and applicants must wait longer times for an application to receive an examination. Through work sharing, an office eliminates the redundancy by utilizing the work of another office thereby expediting patent prosecution.

The USPTO is conducting a roundtable to evaluate the patent community and/or the public sector's views on work sharing, including current work-sharing efforts, as well as suggestions for future work-sharing opportunities. The USPTO plans to invite a number of roundtable participants from patent user groups, practitioners, industry, independent inventor organizations, academia, and Government. To ensure that the USPTO is receiving a balanced array of views on work sharing, the USPTO also plans to have a few “at-large” participants based upon requests received in response to this notice. To ensure that all who are speaking will have a meaningful chance to do so, the number of participants in the roundtable is limited. Those who wish to participate in the roundtable must do so by written request. Members of the public who wish solely to attend and observe the roundtable need not submit a request.

Any member of the public, however, may submit written comments for consideration by the USPTO on issues raised at the roundtable or on any other issues pertaining to work sharing. Persons submitting written comments should note that the USPTO does not plan to provide a “comment and response” analysis of such comments as this notice does not constitute a notice of proposed rule making.

The USPTO plans to make the roundtable available via Web cast. Web cast information will be available on the USPTO's Internet Web site before the roundtable. The written comments and list of the roundtable participants and their associations will be posted on the USPTO's Internet Web site.

Dated: October 14, 2009.
David J. Kappos,
Under Secretary of Commerce for Intellectual Property and Director of the United States Patent and Trademark Office.

[FR Doc. E9-25262 Filed 10-20-09; 8:45 am]

BILLING CODE 3510-16-P